SECURITIES AND EXCHANGE COMMISSION

Sunshine Act Meeting

Federal Register citation of previous announcement: [80 FR 32638, June 9, 2015].

STATUS: Closed Meeting.

PLACE: 100 F Street NE., Washington, D.C.

DATE AND TIME OF PREVIOUSLY ANNOUNCED MEETING: June 11, 2015 at 2:00 p.m.

CHANGE IN THE MEETING: Additional Item.

The following matter will also be considered during the 2:00 p.m. Closed Meeting scheduled for Thursday, June 11, 2015: A matter related to pending litigation

The General Counsel of the Commission, or her designee, has certified that, in her opinion, one or more of the exemptions as set forth in 5 U.S.C. 552b(c)(3), (5), (7), (9)(B) and and (10) and 17 CFR 200.402(a)(3), (5), (7), (9)(ii) and (10), permit consideration of the scheduled matter at the Closed Meeting.

Commissioner Stein, as duty officer, voted to consider the items listed for the Closed Meeting in closed session, and determined that Commission business required consideration earlier than one week from today. No earlier notice of this Meeting was practicable.

At times, changes in Commission priorities require alterations in the scheduling of meeting items. For further information and to ascertain what, if any, matters have been added, deleted or postponed, please contact the Office of the Secretary at (202) 551-5400.

Dated: June 11, 2015.
Brent J. Fields,
Secretary.

[FR Doc. 2015-14834 Filed 6-12-15; 11:15 am]

BILLING CODE 8011-01-P